DEPARTMENT OF ENERGY

Federal Energy Regulatory Commission

[Docket No. PL04-01-000]

New England Gas Pipeline and Storage Study; Notice of Public Conference

October 24, 2003.

Take notice that on November 14, 2003, at 10 am in Meeting Room A at the Massachusetts Department of Telecommunication and Energy, One South Station, Boston, Massachusetts, the Staff of the Federal Energy Regulatory Commission (FERC or Commission) will convene a technical conference with interested parties to discuss issues related to the study being performed by the Commission concerning natural gas and storage facilities in New England. Section 26 of the Pipeline Safety Improvement Act of 2002 requires the Commission, in consultation with the Department of Energy, to conduct this study in order to consider the ability of natural gas pipeline and storage facilities in New England to meet current and projected demand by gas-fired power generation plants and other consumers.

The conference will consist of an overview of the study currently in preparation by the Commission staff followed by discussion and recommendations from a panel composed of representatives of New England energy interests. A question and answer session will follow the panel discussion.

Transcripts of the conference will be available from Ace-Federal Reporters, Inc. for a fee (202) 347-3700. The transcript will be available on the Commission's “eLibrary” system two weeks after the conference.

For additional information, please contact John Schnagl in the Office of Energy Projects, phone: (202) 502-8756, e-mail: john.schnagl@ferc.gov.

Magalie R. Salas,
Secretary.

[FR Doc. E3-00141 Filed 10-29-03; 8:45 am]

BILLING CODE 6717-01-P